DEPARTMENT OF COMMERCE

Submission for OMB Review; Comment Request

The Department of Commerce will submit to the Office of Management and Budget (OMB) for clearance the following proposal for collection of information under the provisions of the Paperwork Reduction Act.

Agency: U.S. Census Bureau.

Title: 2018-2020 Business Research & Development Survey.

OMB Control Number: 0607-0912.

Form Number(s): BRD-1.

Type of Request: Revision of a currently approved collection.

Number of Respondents: 45,000.

Average Hours per Response: 3 hours and 18 minutes.

Burden Hours: 148,600.

Needs and Uses: The U.S. Census Bureau, with support from the National Science Foundation (NSF), plans to conduct the Business Research and Development Survey (BRDS) for the 2018-2020 survey years. The BRDS covers all domestic, non-farm, for-profit businesses with at least 10 paid employees. The BRDS provides the only comprehensive data on Research and Development (R&D) costs and detailed expenses by type and industry.

The Census Bureau has conducted an R&D survey since 1957, collecting primarily financial information on the systematic work companies undertake to discover new knowledge or use existing knowledge to develop new or improved goods and services.

Beginning in 2018, the BRDS will collect new data about R&D on artificial intelligence, geographic detail of companies' R&D workforce, and leased and temporary R&D employees.

There is increasing interest among domestic policy-makers and in the international community, as well as among U.S. researchers in academia, government and industry, for more data on artificial intelligence.

Domestic and foreign geographic information for R&D workforce will address Bureau of Economic Analysis (BEA) requests on inputs for enhanced estimation and evaluation of gross domestic product by state, foreign direct investment in the U.S., and U.S. direct investment abroad.

As a result of the revision of the Frascati Manual: Guidance for Collecting and Reporting on R&D (OECD, 2015), countries are recommended to collect and separately report on both internal R&D workers (those who are employed directly by and are part of the R&D-performing business) and “external” R&D workers (consultants, contractors, and others who contribute directly to the R&D performance of the R&D-performing business, but are not an employee of the business). The collection of these R&D employees is to provide internationally comparable US data on total business R&D workers.

The 2018-2020 BRDS will continue to collect the following types of information:

• R&D expense based on accepted accounting standards.

• Worldwide R&D of domestic companies.

• Business segment detail.

• R&D-related capital expenditures.

• Detailed data about the R&D workforce.

• R&D strategy and data on the potential impact of R&D on the market.

• R&D directed to application areas of particular national interest.

• Data measuring intellectual property protection activities and technology transfer.

Domestic and foreign researchers in academia, business, and government analyze and cite data from the BRDS. Among the federal government users are the Bureau of Economic Analysis (BEA) and the White House's Office of Science and Technology Policy (OSTP). BEA includes R&D in the system of national accounts that measures the economic well-being of the country. BRDS data are key inputs into these accounts, which feed into the calculation of the U.S. Gross Domestic Product (GDP). The White House, in 2006, issued the American Competitiveness Initiative to “increase investments in research and development, strengthen education, and encourage entrepreneurship.” In support of this initiative and in response to legislative mandates, data on R&D are delivered to OSTP, primarily in the biennial National Science Board report Science and Engineering Indicators. Also, the National Science Foundation (NSF) produces a series of publications containing R&D data including the National Patterns of R&D Resources series, the S&E State Profile series, and the annual Business R&D and Innovation series. Special reports and other publications are also prepared.

Affected Public: Business or other for-profit.

Frequency: Annually.

Respondent's Obligation: Mandatory.

Legal Authority: The survey is conducted under the authority of Title 13, United States Code, Sections 8(b), 131, and 182, and Title 42, United States Code, Sections 1861-76 (National Science Foundation Act of 1950, as amended).

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-24279 Filed 11-6-18; 8:45 am]

BILLING CODE 3510-07-P